DEPARTMENT OF HEALTH AND HUMAN SERVICES

[Document Identifier: OS-0990-0281]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

SUMMARY: In compliance with the requirement of the Paperwork Reduction Act of 1995, the Office of the Secretary (OS), Department of Health and Human Services, is publishing the following summary of a proposed collection for public comment.

DATES: Comments on the ICR must be received on or before November 15, 2024.

ADDRESSES: Submit your comments to Sherrette.Funn@hhs.gov or by calling (202) 795-7714.

FOR FURTHER INFORMATION CONTACT: When submitting comments or requesting information, please include the document identifier 0990-0281-30D and project title for reference, to Sherrette A. Funn, email: Sherrette.Funn@hhs.gov, or call (202) 795-7714 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Prevention Communication Formative Research.

Type of Collection: Extension.

OMB No: 0990-0281—Office of Disease Prevention and Health Promotion.

Abstract: The Office of Disease Prevention and Health Promotion (ODPHP) is focused on developing and disseminating health information to the public. ODPHP faces an increasingly urgent interest in finding effective ways to communicate health information to America's diverse population. ODPHP strives to be responsive to the needs of America's diverse audiences while simultaneously serving all Americans across a range of channels, from print to new communication technologies. To carry out prevention information efforts, ODPHP is committed to conducting formative and usability research to provide guidance on the development and implementation of their communication and education efforts. The information collected will be used to improve communication, products, and services that support key office activities including: Healthy People, Dietary Guidelines for Americans, Food Is Medicine, Physical Activity Guidelines for Americans, MyHealthfinder, the Move Your Way® Campaign, the President's Council on Sports, Fitness & Nutrition, health literacy and healthy aging. ODPHP communicates through its website (www.health.gov) and through other channels including social media, print materials, interactive training modules, and reports. This request builds on previous formative research approaches to place more emphasis on Web-based data collection to allow greater geographical diversity among respondents, to decrease respondent burden, and to save government costs. Data collection will be qualitative and quantitative and may include in-depth interviews, focus groups, web-based surveys, omnibus surveys, card sorting, and various forms of usability testing of materials and interactive tools to assess the public's understanding of disease prevention and health promotion content, responses to prototype materials, and barriers to effective use.

The program is requesting a 3-year extension of its clearance.

Annualized Burden Hour Table
Forms (if necessary) | Number of respondents | Number of responses per respondents | Average burden per response | Total burden hours
In-depth interviews—Screener | 500 | 1 | 10/60 | 83
In-depth interviews—Instrument | 167 | 1 | 1.00 | 167
Focus groups—Screener | 975 | 1 | 10/60 | 162.5
Focus groups—Instrument | 325 | 1 | 1.50 | 487.5
Intercept interviews | 1750 | 1 | 5/60 | 146
Cognitive testing of instruments—Screener | 50 | 1 | 10/60 | 8
Cognitive testing of instruments—Cognitive test | 17 | 1 | 2.00 | 34
Web-based surveys—Screener | 10,000 | 1 | 5/60 | 833
Web-based surveys—Survey | 3,333 | 1 | 15/60 | 833
Omnibus surveys | 700 | 1 | 10/60 | 117
Gatekeeper reviews | 109 | 1 | 30/60 | 54
Card sorting—Screener | 200 | 1 | 10/60 | 33
Card sorting—Card sort | 67 | 1 | 1.00 | 67
Usability and prototype testing of materials (print and web)—Screener | 600 | 1 | 10/60 | 100
Usability and prototype testing of materials (print and web)—usability tests | 208 | 1 | 1.00 | 208
Total |  |  |  | 3,333

Sherrette A. Funn,
Paperwork Reduction Act Reports Clearance Officer, Office of the Secretary.

[FR Doc. 2024-23795 Filed 10-15-24; 8:45 am]

BILLING CODE 4150-32-P